DEPARTMENT OF TRANSPORTATION

Federal Aviation Administration

14 CFR Part 71

[Docket No. FAA-2023-2269; Airspace Docket No. 23-ASO-4]

RIN 2120-AA66

Amendment of Jet Routes and Domestic Very High Frequency Omnidirectional Range (VOR) Federal Airways and Revocation of VOR Federal Airway; Eastern United States

AGENCY: Federal Aviation Administration (FAA), DOT.

ACTION: Final rule.

SUMMARY: This action amends Jet Routes J-6, J-14, J-66, J-101, J-131, and J-180; amends Very High Frequency Omnidirectional Range (VOR) Federal Airways V-54, V-74, V-124, V-305, V-532, and V-573; and revokes VOR Federal Airway V-534 in the eastern United States. These actions support the Little Rock, AR (LIT), VOR/Tactical Air Navigation (VORTAC) relocation project.

DATES: Effective date 0901 UTC, November 27, 2025. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System.

History

The FAA published a NPRM for Docket No. FAA 2023-2269 in the Federal Register (88 FR 85133; December 7, 2023), proposing to amend six Jet routes; amend six VOR Federal airways; and revoke one VOR Federal airway in the eastern United States. Interested parties were invited to participate in this rulemaking effort by submitting written comments on the proposal to the FAA. No comments were received.

Differences From the NPRM

The NPRM published for Docket No. FAA 2023-2269 in the Federal Register (88 FR 85113; December 7, 2023) contained a typographical error in the title and summary section. The title and summary section stated that the NPRM was proposing to revoke one Jet route. This should have stated that it was proposing to revoke one VOR Federal Airway. The Proposal section and regulatory text correctly described revocation of VOR Federal Airway V-534 as intended.

Subsequent publication of the NPRM, the FAA decided to remove Jet Route J-180 from this docket and incorporate it into Docket No. FAA 2024-2226. The final rule for Docket No. FAA 2024-2226 was published in the Federal Register (90 FR 14199; March 31, 2025) to streamline the publication of final rules addressing all ATS routes affected by the planned decommissioning of the VOR portion of the Sawmill, LA (SWB), VOR/DME.

Also, subsequent publication of the NPRM, the FAA identified that VOR Federal Airway V-573 was described as extending between the Will Rogers, OK (IRW), VORTAC and the Little Rock, AR (LIT), VORTAC in error. Prior to this final rule, V-573 extended between the Will Rogers, OK (IRW), VORTAC and the Bonham, TX (BYP), VORTAC; and between the Texarkana, AR (TXK), VORTAC and the Little Rock, AR (LIT), VORTAC.

The FAA identified that VOR Federal Airway V-54 was described as extending between the Waco, TX (ACT), VORTAC and the Little Rock, AR (LIT), VORTAC; and between the Sandhills, NC (SDZ), VORTAC and the Kinston, NC (ISO), VORTAC in error. Prior to this final rule, V-54 extended between the Waco, TX (ACT), VORTAC and the Cedar Creek, TX (CQY), VORTAC; between the Texarkana, AR (TXK), VORTAC and the Little Rock, AR (LIT), VORTAC; and between the Sandhills, NC (SDZ), VORTAC and the Kinston, NC (ISO), VORTAC. Additionally, the FAA incorrectly identified that MUFRE, AR, Fix was added to VOR Federal Airway V-54. The MUFRE Fix is in the description of V-54 and this action amends the radial of the Little Rock VORTAC that defines it.

The FAA identified that VOR Federal Airway V-74 was described as extending between the Garden City, KS (GCK), VORTAC, and the Magnolia, MS (MHZ), VORTAC in error. Prior to this final rule, V-74 extended between the Garden City, KS (GCK), VORTAC and the Dodge City, KS (DDC), VORTAC; and between the Pioneer, OK (PER), VORTAC and the Magnolia, MS (MHZ), VORTAC.

The FAA identified that in the description of Jet Route J-131 the radials identifying the RUSLR, MO, Fix were listed in error, and in the description of VOR Federal Airway V-305 the radials identifying the UKORE, AR, Fix were listed in error. The radials listed defined the location of each Fix but did not identify the radials that define the path of each airway as required. In Jet Route J-131, the route segment between the Little Rock, AR (LIT), VORTAC and the Pocket City, IN (PXV), VORTAC should be described as the intersection of the Little Rock 049° and the Pocket City, IN, 229° radials. In VOR Federal Airway V-305, the route segment between the Little Rock VORTAC and the Walnut Ridge, AR (ARG), VORTAC should be described as the intersection of the Little Rock 039° and Walnut Ridge, AR, 215° radials. This final rule corrects these errors.

The FAA reviewed the airway descriptions contained in the in the proposed regulatory text of the NPRM and identified a pre-existing error in the V-532 description. The description is missing the Wichita, KS, VORTAC. When the airway was established in 1982 (47 FR 44717), it contained a segment that extended between the Pioneer, OK, VORTAC through the Wichita, KS, VORTAC and the intersection of the Wichita VORTAC 356° and Salina, KS, VORTAC 168° radials (STONS Fix).

In 1983, the FAA relocated the Wichita VORTAC six nautical miles west from its existing location and published a final rule (48 FR 31191) to adjust the Wichita VORTAC radial that made up the STONS Fix. In that rule, the FAA inadvertently removed the Wichita VORTAC from the V-532 description when it amended the airway by deleting the words “Wichita, KS; INT Wichita 356° and Salina, KS, 168° radials” and substituting the words “INT Wichita, KS, 004° and Salina, KS, VORTAC 168° radials”. The FAA published a final rule correction (48 FR 35366) that same year which corrected the Wichita VORTAC radial that made up the STONS Fix from the Wichita, KS, 004° radial to the Wichita, KS, 014° radial, but retained the inadvertent removal of the V-532 Wichita VORTAC route point between the Pioneer VORTAC and the STONS Fix route points.

This action corrects the V-532 airway description error from 1983 by re-inserting the Wichita, KS, VORTAC route point in the V-532 description between the Pioneer, OK, VORTAC and the intersection of the Wichita VORTAC 014° and Salina, KS, VORTAC 168° radials (STONS Fix) route points. Additionally, this action corrects a typographic error in the V-532 airway description to reflect the “Fort Smith” route point as the “Fort Smith, AR” route point.

Additionally, subsequent to the NPRM, the FAA published a final rule for Docket No. FAA-2024-1048 in the Federal Register (89 FR 81339; October 8, 2024), amending Jet Route J-101 by removing the route segments between the Spinner, IL, VORTAC and the Northbrook, IL, VOR/DME. That airway amendment, effective December 26, 2024, is included in this rule.

Finally, minor editorial corrections to the airway descriptions are made to comply with ATS route formatting requirements.

Incorporation by Reference

Jet Routes are published in paragraph 2004 and Domestic VOR Federal Airways are published in paragraph 6010(a) of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J, which lists Class A, B, C, D, and E airspace areas, air traffic service routes, and reporting points, is publicly available as listed in the ADDRESSES section of this document.

The Rule

This action amends 14 CFR part 71 by amending Jet Routes J-6, J-14, J-66, J-101, and J-131; amending VOR Federal Airways V-54, V-7, V-124, V-305, V-532, and V-573; and revoking VOR Federal Airway V-534 in support of the Little Rock, AR (LIT), VORTAC relocation project. The ATS route changes are described below.

J-6: Prior to this final rule, J-6 extended between the Salinas, CA (SNS), VORTAC and the Little Rock, AR (LIT), VORTAC; and between the Charleston, WV (HVQ), VOR/Distance Measuring Equipment (VOR/DME) and the Albany, NY (ALB), VORTAC. The FAA removes the airway segment between the Will Rogers, OK (IRW), VORTAC and the Little Rock VORTAC as this segment is not needed due to redundant navigation capability provided by Jet Route J-14. As amended, the route extends between the Salinas VORTAC and the Will Rogers VORTAC; and between the Charleston VOR/DME and the Albany VORTAC.

J-14: Prior to this final rule, J-14 extended between the Panhandle, TX (PNH), VORTAC and the Vulcan, AL (VUZ), VORTAC. The FAA adds the KOMMA, OK, Fix and the new JMUCK, MS, Fix to the route description as each would be a turn of more than one degree. The KOMMA Fix is added between the Will Rogers, OK (IRW), VORTAC and the Little Rock, AR (LIT), VORTAC; and the JMUCK Fix is added between the Little Rock VORTAC and the Vulcan VORTAC. The new JMUCK Fix is defined by the intersection of the relocated Little Rock, AR (LIT), VORTAC 105° and the Vulcan VORTAC 284° radials. As amended, the route continues to extend between the Panhandle VORTAC and the Vulcan VORTAC.

J-66: Prior to this final rule, J-66 extended between the Newman, TX (EWM), VORTAC and the Rome, GA (RMG), VORTAC. The FAA adds the MEEOW, AR, Fix to the route description between the Bonham, TX (BYP), VORTAC and the Little Rock, AR (LIT), VORTAC as it would be a turn of more than one degree. As amended, the route continues to extend between the Newman VORTAC and the Rome VORTAC.

J-101: Prior to this final rule, J-101 extended between the Humble, TX (IAH), VORTAC and the Sault Ste Marie, MI (SSM), VOR/DME. The FAA adds the CISAR, AR, Fix to the route description between the Lufkin, TX (LFK), VORTAC and the Little Rock, AR (LIT), VORTAC as it would be a turn of more than one degree. As amended, the route continues to extend between the Humble VORTAC and the Sault Ste Marie VOR/DME.

J-131: Prior to this final rule, J-131 extended between the San Antonio, TX (SAT), VORTAC and the Pocket City, IN (PXV), VORTAC. The FAA adds the RUSLR, MO, Fix to the route description between the Little Rock, AR (LIT), VORTAC and the Pocket City VORTAC as it would be a turn of more than one degree. As amended, the route would continue to extend between the San Antonio VORTAC and the Pocket City VORTAC.

V-54: Prior to this final rule, V-54 extended between the Waco, TX (ACT), VORTAC and the Cedar Creek, TX (CQY), VORTAC; between the Texarkana, AR (TXK), VORTAC and the Little Rock, AR (LIT), VORTAC; and between the Sandhills, NC (SDZ), VORTAC and the Kinston, NC (ISO), VORTAC. The FAA amends the MUFRE, AR, Fix which is defined as the intersection of the Texarkana, AR (TXK), VORTAC, 052° and the Little Rock VORTAC, 230° radials. Additionally, the FAA adds language to the route description that the airway excludes restricted area R-2403B when it is active. As amended, the route continues to extend between the Waco VORTAC and the Cedar Creek VORTAC; between the Texarkana VORTAC; and the Little Rock VORTAC; and between the Sandhills VORTAC and the Kinston VORTAC.

V-74: Prior to this final rule, V-74 extended between the Garden City, KS (GCK), VORTAC and the Dodge City, KS (DDC), VORTAC; and between the Pioneer, OK (PER), VORTAC and the Magnolia, MS (MHZ), VORTAC. The FAA adds the OLLAS, AR, Fix to the route description between the Fort Smith, AR (FSM), VORTAC and the Little Rock, AR (LIT), VORTAC as it would be a turn of more than one degree. As amended, the route continues to extend between the Garden City VORTAC and the Dodge City VORTAC; and between the Pioneer VORTAC and the Magnolia VORTAC.

V-124: Prior to this final rule, V-124 extended between the Bonham, TX (BYP), VORTAC and the Gilmore, AR (GQE), VOR/DME. In the description of V-124, the direct route segment between the Little Rock, AR (LIT), VORTAC and the Gilmore VOR/DME is further described as the Little Rock VORTAC 071° and the Gilmore VOR/DME 241° radials. The FAA removes a portion of this route segment between the intersection of the Little Rock, AR (LIT), VORTAC 071° and the Marvell, AR (UJM), VOR/DME 326° radials (HILLE Fix) and the Gilmore VOR/DME as it is not needed for ATC services. Additionally, the FAA adds to the route description that the airway excludes restricted area R-2403B when it is active. In order to navigate through and around the Memphis area, IFR traffic may continue to utilize VOR Federal Airways V-16 and V-159 or RNAV Route T-398. Visual Flight Rules (VFR) air traffic may also utilize all of the previously listed routes. RNAV equipped aircraft may also navigate via point-to-point navigation using the fixes that will remain in place, or request and receive ATC radar vectors through and around the area. As amended, the route extends between the Bonham VORTAC and the HILLE Fix.

V-305: Prior to this final rule, V-305 extended between the El Dorado, AR (ELD), VOR/DME and the Walnut Ridge, AR (ARG), VORTAC; and between the Cunningham, KY (CNG), VOR/DME and the Brickyard, IN (VHP), VORTAC. The FAA adds the UKORE, AR, Fix to the route description between the Little Rock, AR (LIT), VORTAC and the Walnut Ridge, AR (ARG), VORTAC as it would be a turn of more than one degree, and adds language that the airway excludes restricted area R-2403B when it is active. As amended, the route continues to extend between the El Dorado VOR/DME and the Walnut Ridge VORTAC; and between the Cunningham VOR/DME and the Brickyard VORTAC.

V-532: Prior to this final rule, V-532 extended between the Little Rock, AR (LIT), VORTAC and the Lincoln, NE (LNK), VORTAC. The FAA removes the route segments between the Little Rock VORTAC and the Fort Smith, AR (FSM), VORTAC due to lack of use as V-74 offers a more direct path for aircraft to navigate between the Little Rock VORTAC and the Fort Smith VORTAC. Additionally, V-303 continues to provide navigation capability between the BLURB, AR, Fix and the Fort Smith VORTAC. As amended, the route extends between the Fort Smith VORTAC and the Lincoln VORTAC.

V-534: Prior to this final rule, V-534 extended between the Little Rock, AR (LIT), VORTAC and the Fort Smith, AR (FSM), VORTAC. The FAA removes the entire route due to lack of use as V-74 offers a more direct path for aircraft to navigate between Little Rock VORTAC and Fort Smith VORTAC.

V-573: Prior to this final rule, V-573 extended between the Will Rogers, OK (IRW), VORTAC and the Bonham, TX (BYP), VORTAC; and between the Texarkana, AR (TXK), VORTAC and the Little Rock, AR (LIT), VORTAC. The FAA removes the route segment between the Hot Springs, AR (HOT), VOR/DME and Little Rock VORTAC due to V-124 providing redundant navigation capability. As amended, the route extends between the Will Rogers VORTAC and the Bonham, VORTAC; and between the Texarkana VORTAC and the Hot Springs VOR/DME.

The navigational aid (NAVAID) radials listed in the ATS route description regulatory text of this final rule are stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending ATS Routes J-6, J-14, J-66, J-101, J-131, V-54, V-74, V-124, V-305, V-532, and V-573; and revoking V-534 in support of the Little Rock, AR (LIT), VORTAC relocation project, qualifies for categorical exclusion under the National Environmental Policy Act (42 U.S.C. 4321, et seq.) and in accordance with FAA Order 1050.1G, FAA National Environmental Policy Act Implementing Procedures, paragraph B-2.5(a), which categorically excludes from further environmental impact review rulemaking actions that designate or modify classes of airspace areas, airways, routes, and reporting points (see 14 CFR part 71, Designation of Class A, B, C, D, and E Airspace Areas; Air Traffic Service Routes; and Reporting Points); and paragraph B-2.5(i,) which categorically excludes from further environmental review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. As such, this action is not expected to result in any potentially significant environmental impacts. In accordance with the FAA's NEPA implementation policy and procedures regarding extraordinary circumstances, the FAA has reviewed this action for factors and circumstances in which a normally categorically excluded action may have a significant environmental impact requiring further analysis. The FAA has determined that no extraordinary circumstances exist that warrant preparation of an environmental assessment or environmental impact statement.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 2004 Jet Routes.

* * * * *

J-6 [Amended]

From Salinas, CA; INT Salinas 145° and Avenal, CA, 292° radials; Avenal; INT Avenal 119° and Palmdale, CA, 310° radials; Palmdale; Hector, CA; Needles, CA; Drake, AZ; Zuni, AZ; Albuquerque, NM; Tucumcari, NM; Panhandle, TX; to Will Rogers, OK. From Charleston, WV; INT Charleston 076° and Martinsburg, WV, 243° radials; Martinsburg; Lancaster, PA; Broadway, NJ; Sparta, NJ; to Albany, NY.

* * * * *

J-14 [Amended]

From Panhandle, TX; Will Rogers, OK; INT Will Rogers 097° and Little Rock, AR, 276° radials; Little Rock; INT Little Rock 105° and Vulcan, AL, 284° radials; to Vulcan.

* * * * *

J-66 [Amended]

From Newman, TX; Big Spring, TX; Abilene, TX; Ranger, TX; Bonham, TX; INT Bonham 070° and Little Rock, AR, 247° radials; Little Rock; Memphis, TN; INT Memphis 100° and Rome, GA, 284° radials; to Rome.

* * * * *

J-101 [Amended]

From Humble, TX, Lufkin, TX; INT Lufkin 031° and Little Rock, AR, 210° radials; Little Rock; St. Louis, MO; to Spinner, IL. From Northbrook, IL; Badger, WI; Green Bay, WI; to Sault Ste Marie, MI.

* * * * *

J-131 [Amended]

From San Antonio, TX, INT San Antonio 007° and Ranger, TX, 214° radials; Ranger; Texarkana, AR; Little Rock, AR; INT Little Rock 049° and Pocket City, IN, 229° radials; to Pocket City.

* * * * *

Paragraph 6010(a) Domestic VOR Federal Airways.

* * * * *

V-54 [Amended]

From Waco, TX; to Cedar Creek, TX. From Texarkana, AR; INT Texarkana 052° and Little Rock, AR, 230° radials; to Little Rock. From Sandhills, NC; INT Sandhills 146° and Fayetteville, NC, 267° radials; Fayetteville; to Kinston, NC. Excluding R-2403B when active.

* * * * *

V-74 [Amended]

From Garden City, KS; to Dodge City, KS. From Pioneer, OK; Tulsa, OK; Fort Smith, AR; 6 miles, 7 miles wide (4 miles north and 3 miles south of centerline) INT Fort Smith 112° and Little Rock, AR, 284° radials; Little Rock; Pine Bluff, AR; Greenville, MS; to Magnolia, MS. Excluding R-2403A and R-2403B when active.

* * * * *

V-124 [Amended]

From Bonham, T; Paris, TX; Hot Springs, AR; Little Rock, AR; to INT Little Rock 071° and Marvell, AR, 326° radials. Excluding R-2403B when active.

* * * * *

V-305 [Amended]

From El Dorado, AR; Little Rock, AR; INT Little Rock 039° and Walnut Ridge, AR, 215° radials; to Walnut Ridge. From Cunningham, KY; Pocket City, IN; INT Pocket City 046° and Hoosier, IN, 205° radials; Hoosier; INT Hoosier 025° and Brickyard, IN, l85° radials; to Brickyard. Excluding R-2403B when active.

* * * * *

V-532 [Amended]

From Fort Smith, AR; Okmulgee, OK; Pioneer, OK; Wichita, KS; INT Wichita 014° and Salina, KS, 168° radials; Salina; to Lincoln, NE.

* * * * *

V-534 [Removed]

* * * * *

V-573 [Amended]

From Will Rogers, OK; INT Will Rogers 195° and Ardmore, OK, 327° radials; Ardmore; to Bonham, TX. From Texarkana, AR; INT Texarkana 037° and Hot Springs, AR, 225° radials; to Hot Springs.

* * * * *

Issued in Washington, DC, on August 29, 2025.
Brian Eric Konie,
Acting Manager, Rules and Regulations Group.

[FR Doc. 2025-16861 Filed 9-2-25; 8:45 am]

BILLING CODE 4910-13-P